DEPARTMENT OF HEALTH AND HUMAN SERVICES

Office of the Secretary

Availability of Funds for Grants for the Technical Assistance and Capacity Development Demonstration Grant Program for HIV/AIDS-Related Services in Minority Communities

AGENCY: Department of Health and Human Services, Office of the Secretary, Office of Public Health and Science, Office of Minority Health.

ACTION: Notice.

SUMMARY: The purpose of this Fiscal Year (FY) 2002 Technical Assistance and Capacity Development Demonstration Grant Program for HIV/AIDS-Related Services in Minority Communities is to stimulate, foster, and support the development of effective and durable service delivery capacity for HIV prevention and treatment among organizations closely interfaced with minority populations impacted by HIV/AIDS. The grantee will identify community-based minority-serving organizations that are well linked with minority populations affected by HIV/AIDS, and which have recognized needs and/or gaps in their capacity to provide HIV/AIDS-related prevention and care services. The goals are to:

• Provide administrative and programmatic technical assistance to enable those organizations to enhance their delivery of necessary services; and

• Assist those community-based minority-serving organizations, through an ongoing mentoring relationship, in the development of their capacity as fiscally viable and programmatically effective organizations thereby allowing them to successfully compete for federal funds and other resources.

Authority: This program is authorized under section 1707(e)(1) of the Public Health Service Act (PHS), as amended.

This program is intended to demonstrate the impact of technical assistance and capacity development on improving HIV prevention and care among organizations within a circumscribed area in which many minority individuals (see definition of Minority Populations) are in need of HIV/AIDS prevention and/or treatment services. To the extent that selected services such as substance abuse and mental health treatment, in relation to HIV/AIDS, are available within the circumscribed area, linkages with these services will be fostered as part of the technical assistance. The program is intended to address HIV/AIDS issues within the context of related socioeconomic factors and contribute to overall community empowerment by strengthening indigenous leadership and organizations.

Project outcomes must include any or all of the following:

• Reduction in high-risk behaviors by increasing the capacity of community-based minority-serving organizations to work directly with hardly reached minority populations (e.g., youth, women at risk, men having sex with men, homeless persons, injection drug users, mentally ill persons, incarcerated persons).

• Improved access to health care through increasing the capacity of community-based minority-serving organizations to work directly with hardly reached minority populations (e.g., youth, women at risk, men having sex with men, homeless persons, injection drug users, mentally ill persons, incarcerated persons).

• Increased counseling and testing services by increasing the capacity of community-based minority-serving organizations to work directly with hardly reached minority populations (e.g., youth, women at risk, men having sex with men, homeless persons, injection drug users, mentally ill persons, incarcerated persons).

• Increased number of community-based minority-serving organizations directly involved in addressing the HIV/AIDS epidemic.

• Increased number of community-based minority-serving organizations with the programmatic and fiscal capacity to identify, apply for, and receive funding to address the HIV/AIDS epidemic.

ADDRESSES: For this grant, applicants must use Form PHS 5161-1 (Revised July 2000 and approved by OMB under Control Number 0348-0043). Applicants are advised to pay close attention to the specific program guidelines and general instructions provided in the application kit. To get an application kit, write to: Ms. Chanee Jackson, OMH Grants Management Center, c/o Health Management Resources, Inc., 8401 Corporate Drive, Suite 400, Landover, MD 20785, e-mail grantrequests@healthman.com, fax (301) 429-2315; or call Chanee Jackson at (301) 429-2300. Send the original and 2 copies of the complete grant application to Ms. Chanee Jackson at the same address.

DATES: To receive consideration, grant applications must be postmarked by the OMH Grants Management Center by 5 p.m. EDT on July 25, 2002. Applications postmarked after the exact date and time specified for receipt will not be accepted. Applications submitted by facsimile transmission (FAX) or any other electronic format will not be accepted. Applications which do not meet the deadline will be returned to the applicant unread.

FOR FURTHER INFORMATION CONTACT: Ms. Karen Campbell, Grants Management Officer, for technical assistance on budget and business aspects of the application. She may be contacted at the Office of Minority Health, Rockwall II Building, Suite 1000, 5515 Security Lane, Rockville, MD 20852; or by calling (301) 594-0758. For questions on the program and assistance in preparing the grant proposal, contact: Ms. Cynthia H. Amis, Director, Division of Program Operations, at the same address; or by calling (301) 594-0769.

For additional assistance, contact OMH Regional Minority Health Consultants listed in the grant application kit. For health information, call the OMH Resource Center at 1-800-444-6472.

SUPPLEMENTARY INFORMATION: OMB Catalog of Federal Domestic Assistance: The OMB Catalog of Federal Domestic Assistance Number for this program is 93.006.

Availability of Funds

About $4.8 million is expected to be available for award in FY 2002. It is expected that 10 to 12 awards will be made. Support may be requested for a total project period not to exceed 3 years.

Those applicants funded through the competitive process:

• Are to begin their service demonstration programs on September 30, 2002.

• Will receive an award up to $400,000 total costs (direct and indirect) for a 12-month period.

• Will be able to apply for a noncompeting continuation award up to $400,000 (direct and indirect) for each of two additional years. After year 1, funding will be based on:

—The amount of money available; and

—Success or progress in meeting project objectives.

Note: For the noncompeting continuation awards, grantees must submit continuation applications, written reports, and continue to meet the established program guidelines.

Eligible Applicants

To qualify for funding, an applicant must:

1. Be a private nonprofit community-based minority-serving organization (see definition) which addresses health and human services; or

2. Be a public (state or local government) or tribal governmental entity which addresses health and human services.

Applicants must have a minimum of five years experience providing HIV/AIDS-related services. The applicant must have the necessary administrative infrastructure to receive and appropriately manage federal funds.

Note: Faith-based organizations that meet the above criteria are eligible to apply for these Technical Assistance and Capacity Development Demonstration grants. Tribal organizations and local affiliates of national, state-wide, or regional organizations that meet the definition of a private non-profit community-based, minority-serving organization are also eligible to apply.

Organizations may not receive a grant from more than one OMH program at the same time. However, an organization with an OMH grant that ends by 9/29/02 can submit an application under this announcement.

The applicant submitting the application will:

1. Serve as the lead agency for the grant;

2. Be responsible for the implementation and management of the project; and

3. Serve as the fiscal agent for the federal grant awarded.

Background

The Office of Minority Health's (OMH) mission is to improve the health of racial and ethnic minority populations (see definition of Minority Populations) through the development of health policies and programs that help to eliminate health disparities and gaps. OMH serves as the focal point in the Department of Health and Human Services for service demonstrations, coalition and partnership building, and related efforts to address the health needs of racial and ethnic minorities. In keeping with its mission, OMH is continuing the Technical Assistance and Capacity Development Demonstration Grant Program for HIV/AIDS-Related Services in Minority Communities to assist in addressing the HIV/AIDS issues facing minority communities. This program is based on the premise that providing technical assistance and capacity development to organizations closely linked with the minority populations impacted by the disease, will improve their capacity to better provide minority populations with HIV/AIDS prevention and treatment services. It is anticipated that this approach will strengthen existing community-based minority-serving organizations' ability to address this health issue by developing and expanding their technical skills and infrastructure capacity. Applicants are encouraged to establish linkages with other federally funded programs supporting HIV/AIDS prevention and care to maximize these efforts.

Effect of HIV/AIDS on Minorities

The Census 2000 Brief ¹ reports the U.S. population as 281.4 million, with 36.4 million ² Blacks or African Americans, or 12.9 percent; 35.3 million Hispanics, or 12.5 percent; approximately 12.8 million Asians/Native Hawaiians and Other Pacific Islanders, or 4.5 percent; and approximately 4 million American Indians/Alaska Natives or 1.5 percent of the total population. HIV/AIDS remains a disproportionate threat to minorities. As of December 31, 2000, the Centers for Disease Control and Prevention (CDC) received reports of 774,467 (cumulative) cases of persons with AIDS in the U.S.³, of whom 38 percent were Black or African American, and 18 percent were Hispanic.

¹ U.S. Census Bureau, The Black Population: 2000—Census 2000 Brief, August 2001.

² This number includes individuals who self-reported as Black, or as Black and one or more other race on the Census 2000 questionnaire.

³ HIV/AIDS Surveillance Report-U.S. HIV and AIDS cases reported through December 2000, Year-End Edition, Vol. 12, No. 2.

Of the 42,156 AIDS cases reported to CDC during 2000, 41,960 were adult/adolescent and 196 were children (<13 years of age). For the adult/adolescent population, 47 percent were Black or African American, and 19 percent were Hispanic. Of the 196 children reported with AIDS, 65 percent were Black non-Hispanic, and 17 percent were Hispanic.

Through December 2000, the most common exposure category reported for AIDS cases among African American and Hispanic males was men who have sex with men (37% and 42%, respectively), with the second most common exposure being injection drug use (34% and 35%, respectively).

HIV infection among U.S. women has increased significantly over the last decade, especially in communities of color. Between 1985 and 1999, the proportion of all AIDS cases reported among adult and adolescent women more than tripled, from 7 to 23 percent. African American and Hispanic women account for more than three-fourths, or 77 percent, of the AIDS cases reported among women in the U.S. Through December 2000, the most common exposure categories for AIDS cases among African American and Hispanic females were heterosexual contact (47%, Hispanic; 38%, African American) and injection drug use (41%, African American; 40%, Hispanic). Young African American and Hispanic women accounted for more than three-fourths of the HIV infections reported among females between the ages of 13 to 24, according to reports to the CDC from the 32 areas with confidential HIV reporting for adults and adolescents for all years combined through 1999.

Project Requirements

Each project funded under this demonstration program is to conduct a model program which is designed to carry out the following functions:

1. Identify the existing capacity for delivering HIV-related services (both HIV prevention and treatment) to minority populations and compare this with available HIV/AIDS surveillance data.

2. Identify high risk minority communities where there are recognized gaps in services for minority populations with HIV/AIDS.

3. Increase the capacity of existing community-based minority-serving organizations which are well interfaced with the minority populations to be served to deliver HIV/AIDS prevention and care by:

• Providing administrative technical assistance to improve the fiscal and organizational capacity appropriate to their programmatic responsibilities; and

• Identifying programmatic technical assistance from the Department of Health and Human Services' Operating Divisions and linking appropriate community-based minority-serving organizations with these resources.

4. Working with newly identified community-based minority-serving organizations to develop strong linkages with other providers of services to complete a continuum of prevention and treatment services, including substance abuse treatment and mental health services for minority HIV/AIDS populations.

Use of Grant Funds

Budgets up to $400,000 total costs (direct and indirect) may be requested per year to cover costs of:

• Personnel;

• Consultants;

• Supplies;

• Equipment;

• Grant-related travel;

• Other grant related costs.

Note: All budget requests must be fully justified in terms of the proposed purpose, objectives, and activities. Funds to attend an annual OMH grantee meeting must be included in the budget.

Funds may not be used for:

• Medical treatment;

• Medical supplies;

• Direct services;

• Fund raising activities;

• Building alterations or renovations;

• Construction.

Review of Applications

• Applications will be screened upon receipt. Those that are judged to be incomplete, non-responsive, or non-conforming to the announcement will not be accepted for review and will be returned.

• Each organization may submit no more than one proposal under this announcement.

• Accepted applications will be reviewed for technical merit in accordance with PHS policies.

• Accepted applications will be evaluated by an Objective Review Committee. Committee members will be chosen for their expertise in minority health and their understanding of the health problems and related issues confronted by racial and ethnic minority populations in the United States.

Application Review Criteria

The technical review of applications will consider the following 5 generic factors.

Factor 1: Program Plan (35%)

• Appropriateness of proposed approach and specific activities for each objective.

• Soundness of any established organizational linkage(s) for providing administrative and programmatic technical assistance related to HIV/AIDS and assisting with the capacity development of identified community-based minority-serving organizations.

• Logic and sequencing of the planned approaches in relation to the objectives and program evaluation.

Factor 2: Evaluation (20%)

• Thoroughness, feasibility, and appropriateness of the evaluation design, data collection, and analysis procedures.

• Clarity of the intent and plans to document activities and their outcomes to establish a model.

• Potential for replication of the project for similar target populations and communities including the assessment of the utility of the different tools used to implement the program.

• Potential for proposed project to impact the HIV/AIDS health disparities experienced by minority populations.

Factor 3: Background (15%)

• Demonstrated knowledge of the HIV/AIDS epidemic at the local level.

• Established level of cultural competence and sensitivity to the issues of minority populations impacted by HIV/AIDS in the service area.

• Expertise and understanding of HIV/AIDS prevention and treatment service delivery systems especially as related to HIV/AIDS care among minority populations.

• Demonstrated need for technical assistance and capacity development among the proposed target service organizations.

• History of long-term relationship with the targeted minority community and evidence of support of local agencies and/or organizations.

• Extent to which the applicant demonstrates access to targeted organizations, is well-positioned and accepted within the communities to be served, and able to interface with community leadership and existing provider systems in the area.

• Demonstration of objective outcomes of past efforts/activities with the target population. (Currently funded Technical Assistance and Capacity Development Demonstration grantees [competing continuation applicants] must attach a progress report describing project accomplishments and outcomes.)

Factor 4: Objectives (15%)

• Merit of the objectives.

• Relevance to the program purpose and stated problem.

• Attainability in the stated time frames.

Factor 5: Management Plan (15%)

• Applicant organization's capability to manage and evaluate the project as determined by:

—Qualifications and appropriateness of proposed staff or requirements for “to be hired” staff

—Proposed staff level of effort

—Management experience of the applicant

• Applicant organization's ability to mobilize a strong administrative technical assistance capacity with onsite knowledge of organizational management skills, diversification of fiscal base, and organizational development.

• Appropriateness of defined roles including staff reporting channels and that of any proposed contractors.

Award Criteria

Funding decisions will be determined by the Deputy Assistant Secretary for Minority Health, OMH and will take under consideration:

• The recommendations and ratings of the review panel.

• Geographic and racial/ethnic distribution.

Reporting and Other Requirements

General Reporting Requirements

A successful applicant under this notice will submit: (1) Progress reports; (2) an annual Financial Status Report; and (3) a final progress report and Financial Status Report in the format established by the OMH, in accordance with provisions of the general regulations which apply under 45 CFR 74.51-74.52, with the exception of State and local governments to which 45 CFR part 92, subpart C reporting requirements apply.

Public Health System Reporting Requirements

This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate state and local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letters forwarding the PHSIS to these authorities must be contained in the application materials submitted to the Office of Minority Health.

State Reviews

This program is subject to the requirements of Executive Order 12372 which allows States the option of setting up a system for reviewing applications from within their States for assistance under certain Federal programs. The application kit available under this notice will contain a listing of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the Office of Minority Health's Grants Management Officer.

The Office of Minority Health does not guarantee that it will accommodate or explain its responses to State process recommendations received after that date. (See “Intergovernmental Review of Federal Programs” Executive Order 12372 and 45 CFR part 100 for a description of the review process and requirements).

Healthy People 2010

The PHS is committed to achieving the health promotion and disease prevention objectives of Healthy People 2010, a PHS-led national activity announced in January 2000 to eliminate health disparities and improve years and quality of life. More information on the Healthy People 2010 objectives may be found on the Healthy People 2010 Web site: http://www.health.gov/healthypeople. Copies of the Healthy People 2010: Volumes I and II can be purchased by calling (202) 512-1800 (cost $70 for printed version or $19 for CDROM). Another reference is the Healthy People 2000 Review-1998-99.

For 1 free copy of Healthy People 2010, contact NCHS: The National Center for Health Statistics, Division of Data Services, 6525 Belcrest Road, Hyattsville, MD 20782-2003; or telephone (301) 458-4636, ask for HHS Publication No. (PHS) 99-1256.

This document may also be downloaded from the NCHS Web site: http://www.cdc.gov/nchs.

Definitions

For purposes of this grant announcement, the following definitions are provided:

Community-Based Organization

A private nonprofit organization that is representative of communities or significant segments of communities, and where the control and decision-making powers are located at the community level.

Community-Based Minority-Serving Organization

A community-based organization that has a history of service to racial/ethnic minority populations. (See definition of Minority Populations below.)

Minority Populations

American Indian or Alaska Native; Asian; Black or African American; Hispanic or Latino; and Native Hawaiian or Other Pacific Islander. (Revision to the Standards for the Classification of Federal Data on Race and Ethnicity, Federal Register, Vol. 62, No. 210, pg. 58782, October 30, 1997.)

Dated: June 20, 2002.
Nathan Stinson, Jr.,
Deputy Assistant Secretary for Minority Health.

[FR Doc. 02-15981 Filed 6-24-02; 8:45 am]

BILLING CODE 4150-29-P